GENERAL SERVICES ADMINISTRATION

[Docket 2010-0009, Sequence 4]

Temporary Duty (TDY) Travel Allowances

AGENCY: Office of Governmentwide Policy, General Services Administration (GSA).

ACTION: Notice of Bulletin FTR 10-06.

SUMMARY: This bulletin provides guidance to employees of agencies subject to the FTR to enhance travel cost savings and reduce greenhouse gas emissions. This guidance will improve management of agency travel programs, save money on travel costs, better protect the environment, and conserve natural resources. Other agencies not subject to the FTR are also encouraged to follow this guidance and incorporate these strategies into their travel management policies, procedures, and activities related to official travel. Bulletin FTR 10-06 and all other Bulletins may be found at http://www.gsa.gov/bulletins.

DATES: The provisions of Bulletin FTR 10-06 are effective September 30, 2010.

FOR FURTHER INFORMATION CONTACT: Mr. Ed Davis, Office of Governmentwide Policy (M), Office of Travel, Transportation, and Asset Management (MT), General Services Administration at (202) 208-7638 or via e-mail at travelpolicy@gsa.gov. Please cite Bulletin FTR 10-06.

Dated: September 30, 2010.
Janet C. Dobbs,
Acting Deputy Associate Administrator, Office of Travel, Transportation and Asset Management.

[FR Doc. 2010-25922 Filed 10-13-10; 8:45 am]

BILLING CODE 6820-14-P